DEPARTMENT OF COMMERCE

Office of the Under Secretary for Economic Affairs

RIN 0691-XC113

American Workforce Policy Advisory Board; Meeting

AGENCY: Office of the Under Secretary for Economic Affairs, Department of Commerce.

ACTION: Notice of public meeting.

SUMMARY: The Office of the Under Secretary for Economic Affairs announces the seventh meeting of the American Workforce Policy Advisory Board (Advisory Board). Discussions of the Advisory Board will include its progress toward achieving the goals set at its inaugural meeting on March 6, 2019, as well as other Advisory Board matters.

DATES: The Advisory Board will meet on September 23, 2020; the meeting will begin at 1:30 p.m. and end at approximately 3:30 p.m. (EDT).

ADDRESSES: The meeting will be held at the Eisenhower Executive Office Building, 1650 Pennsylvania Ave. NW, Washington, DC 20502. The meeting is open to the public via audio conference technology. Audio instructions will be prominently posted on the Advisory Board homepage at: https://www.commerce.gov/americanworker/american-workforce-policy-advisory-board. Please note: The Advisory Board website will maintain the most current information on the meeting agenda, schedule, and location. These items may be updated without further notice in the Federal Register.

The public may also submit statements or questions via the Advisory Board email address, AmericanWorkforcePolicyAdvisoryBoard@doc.gov (please use the subject line “September 2020 Advisory Board Meeting Public Comment”), or by letter to Sabrina Montes, c/o Office of Under Secretary for Economic Affairs, Department of Commerce, 1401 Constitution Avenue NW, Washington, DC 20230. If you wish the Advisory Board to consider your statement or question during the meeting, we must receive your written statement or question no later than 5 p.m. (EDT) four business days prior to the meeting. We will provide all statements or questions received after the deadline to the members; however, they may not consider them during the meeting.

FOR FURTHER INFORMATION CONTACT: Sabrina Montes, c/o Office of Under Secretary for Economic Affairs, Department of Commerce, 1401 Constitution Avenue NW, Washington, DC 20230, (301) 278-9268, or sabrina.montes@bea.gov.

SUPPLEMENTARY INFORMATION: The Secretary of Commerce and the Advisor to the President overseeing the Office of Economic Initiatives serve as the co-chairs of the Advisory Board. In addition to the co-chairs, the Advisory Board comprises 25 members that represent various sectors of the economy. The Board advises the National Council for the American Worker.

The September meeting will include updates on implementation of the Call to Action from the May 2020 meeting and recommendations from prior meetings, and discussions of new recommendations under the four main goals of the Advisory Board:

• Develop a Campaign to Promote Multiple Pathways to Career Success. Companies, workers, parents, and policymakers have traditionally assumed that a university degree is the best, or only, path to a middle-class career. Employers and job seekers should be aware of multiple career pathways and skill development opportunities outside of traditional 4-year degrees.

• Build the Technological Infrastructure Necessary for the Future of Work. In response to the “Call to Action” recommendations approved by the Advisory Board in May 2020, the Increase Data Transparency to Better Match American Workers with American Jobs Working Group expanded its scope and changed its name to the Build the Technological Infrastructure Necessary for the Future of Work Working Group. The working group's scope now includes digital infrastructure investment as described in the “Digital Infrastructure Principles” approved by the Advisory Board at the June 2020 meeting. Our nation cannot achieve a satisfactory economic recovery unless the technological infrastructure is in place to connect and empower all Americans to participate in the workforce. High-quality, transparent, and timely data can significantly improve the ability of employers, students, job seekers, education providers, and policymakers to make informed choices about education and employment—especially for matching education and training programs to in-demand jobs and the skills needed to fill them.

• Modernize Candidate Recruitment and Training Practices. Employers often struggle to fill job vacancies, yet their hiring practices may actually reduce the pool of qualified job applicants. To acquire a talented workforce, employers must better identify the skills needed for specific jobs and communicate those needs to education providers, job seekers, and students.

• Measure and Encourage Employer-led Training Investments. The size, scope, and impacts of education and skills training investments are still not fully understood. There is a lack of consistent data on company balance sheets and in federal statistics. Business and policy makers need to know how much is spent on training, the types of workers receiving training, and the long-term value of the money and time spent in classroom and on-the-job training.

Sabrina L. Montes,
Designated Federal Official, American Workforce Policy Advisory Board, Bureau of Economic Analysis.

[FR Doc. 2020-19087 Filed 8-28-20; 8:45 am]

BILLING CODE 3510-MN-P